NATIONAL TRANSPORTATION SAFETY BOARD

Sunshine Act Meeting

TIME AND DATE: 9:30 a.m., Tuesday, March 15, 2011.

PLACE: NTSB Conference Center, 429 L'Enfant Plaza SW., Washington, DC 20594.

STATUS: The TWO items are open to the public.

MATTERS TO BE CONSIDERED:

8046A Crash During Attempted Go-Around After Landing, East Coast Jets Flight 81, Hawker Beechcraft Corporation 125-800A, N818MV, Owatonna, Minnesota, July 31, 2008.

7802E Most Wanted Board Order—Board Members will consider beginning to use the NTSB notation (written voting) process followed by a press conference to announce the annual Most Wanted List of Safety Improvements, rather than the past practice of deliberating the contents of the list at a meeting of the Board.

NEWS MEDIA CONTACT: Telephone: (202) 314-6100.

The press and public may enter the NTSB Conference Center one hour prior to the meeting for set up and seating.

Individuals requesting specific accommodations should contact Rochelle Hall at (202) 314-6305 by Friday, March 11, 2011.

The public may view the meeting via a live or archived webcast by accessing a link under “News & Events” on the NTSB home page at http://www.ntsb.gov.

FOR MORE INFORMATION CONTACT: Candi Bing, (202) 314-6403.

Dated: March 4, 2011.
Candi R. Bing,
Federal Register Liaison Officer.

[FR Doc. 2011-5356 Filed 3-7-11; 11:15 am]

BILLING CODE 7533-01-P